DEPARTMENT OF ENERGY

Federal Energy Regulatory Commission

[Docket No. RP03-249-000]

Northern Border Pipeline Company; Notice of Proposed Changes in FERC Gas Tariff

February 7, 2003.

Take notice that on February 3, 2003, Northern Border Pipeline Company (Northern Border) tendered for filing to become part of Northern Border's FERC Gas Tariff, First Revised Volume No. 1, Third Revised Sheet Number 202; and Original Sheet Number 303A to become effective February 1, 2003.

Northern Border states that the purpose of this filing is to incorporate a new section in the general terms and conditions of Northern Border's FERC Gas Tariff to list non-conforming agreements, and to reflect two non-conforming Rate Schedule T-1B Service Agreements between Northern Border and Dynegy Marketing and Trade (Dynegy) to effectuate permanent capacity releases for the two Rate Schedule T-1B contracts with Dynegy. Northern Border states that, under its currently effective tariff, Rate Schedule T-1B does not have a provision for capacity release. Northern Border states that these two contracts with Dynegy therefore are being filed as non-conforming agreements.

Northern Border states that it is preparing a separate filing to be filed within the next week to revise tariff sheets to clearly state that capacity release is permitted under Rate Schedule T-1B.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: February 18, 2003.

Magalie R. Salas,
Secretary.

[FR Doc. 03-3662 Filed 2-13-03; 8:45 am]

BILLING CODE 6717-01-P